DEPARTMENT OF AGRICULTURE

Natural Resources Conservation Service

RIN 0578-AA48

Conservation Practice Technical Assistance

AGENCY: Natural Resources Conservation Service, United States Department of Agriculture.

ACTION: Notice; reopening of public comment period.

SUMMARY: On June 12, 2009, the Natural Resources Conservation Service (NRCS) published in the Federal Register a notice for the purpose of: (1) Notifying the public about the results of NRCS compliance with section 1242(h) of the Food Security Act of 1985, as amended; and (2) to solicit public comment about how to improve agency conservation practice standards. The public comment period closed on August 11, 2009. NRCS is hereby reopening the public comment period and amending the closing date September 14, 2009 to ensure the agency has received comments from a broad segment of the agriculture sector.

DATES: Submit comments on or before September 14, 2009.

ADDRESSES: You may send comments using any of the following methods:

• Government-wide rulemaking Web site: Go to http://www.regulations.gov and follow the instructions for sending comments electronically.

• Mail: Norman Widman, National Agronomist, Ecological Sciences Division, Department of Agriculture, Natural Resources Conservation Service, Conservation Practice Standard Comments, PO Box 2890, Washington, DC 20013.

• Fax: (202) 720-5334.

• E-mail: nrcscpta2008@wdc.usda.gov.

• Hand Delivery: USDA South Building, 1400 Independence Avenue, SW., Room 5234, Washington, DC 20250, between 9 a.m. and 4 p.m., Monday through Friday, except Federal Holidays. Please ask the guard at the entrance to the South Building to call (202) 720-4630 in order to be escorted into the building.

• This notice may be accessed via Internet. Users can access the NRCS homepage at: http://www.nrcs.usda.gov/; select the Farm Bill link from the menu; select the Notices link under the heading Farm Bill Public Comments Links. Persons with disabilities who require alternative means for communication (Braille, large print, audio tape, etc.) should contact the USDA TARGET Center at: (202) 720-2600 (voice and TDD).

FOR FURTHER INFORMATION CONTACT: Norman Widman, National Agronomist, Department of Agriculture, Natural Resources Conservation Service, 1400 Independence Avenue SW., Washington, DC 20250; Phone: (202) 720-3783; Fax: (202) 720-2646; or e-mail: norman.widman@wdc.usda.gov.

Signed this 7th day of August, 2009, in Washington, DC.
Virginia L. Murphy,
Acting Chief, Natural Resources Conservation Service.

[FR Doc. E9-19484 Filed 8-13-09; 8:45 am]

BILLING CODE 3410-16-P